DEPARTMENT OF LABOR

Employment and Training Administration

[TA-W-64,154]

Hewlett Packard, ISB Marketing; Corvallis, OR; Notice of Termination of Investigation

Pursuant to section 221 of the Trade Act of 1974, as amended, an investigation was initiated on October 2, 2008 in response to a worker petition filed with the Trade Act Representative on behalf of workers of ISB Marketing, Hewlett Packard, Corvallis, Oregon.

The petitioning group of workers is covered by an active certification, (TA-W-63,939) which expires on September 19, 2010. Consequently, further investigation in this case would serve no purpose, and the investigation has been terminated.

Signed at Washington, DC, this 9th day of October 2008.
Richard Church,
Certifying Officer, Division of Trade Adjustment Assistance.

[FR Doc. E8-24857 Filed 10-20-08; 8:45 am]

BILLING CODE 4510-FN-P